FEDERAL COMMUNICATIONS COMMISSION

47 CFR Part 73

[DA 03-151; MB Docket No. 02-263; RM-10498, RM-10606]

Radio Broadcasting Services; Eagar and Safford, AZ

AGENCY: Federal Communications Commission.

ACTION: Proposed rule; dismissal.

SUMMARY: This document dismisses the petition for rule making filed by Graham County FM Associates, requesting the allotment of Channel 246C3 to Safford, Arizona, as that community's second local aural transmission service. No expression of interest was filed requesting the allotment of Channel 246C3 at Safford, Arizona. It is Commission's policy to refrain from making a new allotment to a community absent an expression of interest. A counterproposal was filed by Eagar Broadcasting proposing the allotment of Channel 246C at Eagar, Arizona, as that community's first local aural transmission service. On December 30, 2002, Eagar Broadcasting filed a Request for Approval of Withdrawal for its counterproposal filed in this proceeding. This document grants the Request for Approval of Withdrawal and dismisses the counterproposal filed by Eagar Broadcasting proposing the allotment of Channel 246C at Eagar, Arizona, as that community's first local aural transmission service.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 02-263, adopted January 15, 2003, and released January 21, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC, 20554, telephone 202-863-2893, facsimile 202-863-2898, or via e-mail qualexint@aol.com.

Federal Communications Commission.
John A. Karousos,
Assistant Chief, Audio Division, Media Bureau.

[FR Doc. 03-2474 Filed 2-3-03; 8:45 am]

BILLING CODE 6712-01-P